DEPARTMENT OF THE INTERIOR

Bureau of Land Management

[CA-190-0777-XG]

Notice of Public Meeting

AGENCY: Bureau of Land Management.

ACTION: Notice of Public Meeting: Central California Resource Advisory Council.

SUMMARY: In accordance with the Federal Land Policy and Management Act (FLPMA) and the Federal Advisory Committee Act of 1972 (FACA), the U.S. Department of the Interior, Bureau of Land Management (BLM) Central California Resource Advisory Council will meet as indicated below.

DATES: The meeting will be held Friday and Saturday, March 24 and 25, 2006. On Friday, the RAC will meet at the Best Western Seacliff Inn, 7500 Old Dominion Court, Aptos, California from 8 a.m. to 5 p.m. There will be a public comment period on Friday, March 24 from 3 p.m. until 4 p.m. at the Markey Community Center which is next door to the Seacliff Inn. Directions: Hwy 1 (traveling North)—Exit State Park Drive, turn right, then an immediate left on Old Dominion Ct. Hwy 1 (traveling South)—Exit State Park Drive, turn left on State Park Drive, cross freeway and turn left on Old Dominion Ct. On Saturday, the RAC is scheduled for a field trip to portions of the Coast Dairies property. Details of the field trip will be announced at the meeting.

SUPPLEMENTARY INFORMATION: The twelve-member Central California Resource Advisory Council advises the Secretary of the Interior, through the Bureau of Land Management, on a variety of public land issues associated with public land management in Central California. At this meeting, agenda topics include an introduction of new RAC members and BLM personnel, regional resource management planning efforts, discussion of a proposed fee collection program for the Clear Creek OHV Management Area, recreation, grazing, cultural resources, and land access issues. The RAC will also hear status reports from the Bakersfield, Bishop, Folsom, and Hollister Field Office Managers.

The meeting is open to the public. The public may present written comments to the Council, and time will be allocated for hearing public comments. Depending on the number of persons wishing to comment and the time available, the time for individual oral comments may be limited. Individuals who plan to attend and need special assistance such as sign language interpretation or other reasonable accommodations should contact the BLM as indicated above.

FOR FURTHER INFORMATION CONTACT: George E. Hill, Field Manager, Hollister Field Office, 20 Hamilton Ct., Hollister, CA 95023. (831) 630-5000. E-mail: George_Hill@ca.blm.gov.

Dated: February 10, 2006.
George E. Hill,
Field Office Manager, Hollister Field Office.

[FR Doc. E6-2207 Filed 2-15-06; 8:45 am]

BILLING CODE 4310-40-P